DEPARTMENT OF COMMERCE

International Trade Administration

[C-552-829]

Passenger Vehicle and Light Truck Tires From the Socialist Republic of Vietnam: Postponement of Preliminary Determination in the Countervailing Duty Investigation

AGENCY: Enforcement and Compliance, International Trade Administration, Department of Commerce.

DATES: Applicable August 12, 2020.

FOR FURTHER INFORMATION CONTACT: Michael Romani or Thomas Schauer, AD/CVD Operations, Office I, Enforcement and Compliance, International Trade Administration, U.S. Department of Commerce, 1401 Constitution Avenue NW, Washington, DC 20230; telephone: (202) 482-0198 or (202) 482-0410, respectively.

SUPPLEMENTARY INFORMATION:

Background

On June 22, 2020, the Department of Commerce (Commerce) initiated a countervailing duty (CVD) investigation of imports of passenger vehicle and light truck tires from the Socialist Republic of Vietnam.¹ Currently, the preliminary determination is due no later than August 26, 2020.

¹ See Passenger Vehicle and Light Truck Tires from the Socialist Republic of Vietnam: Initiation of Countervailing Duty Investigation, 85 FR 38850 (June 29, 2020).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.²

² See 19 CFR 351.205(e).

On July 24 and August 4, 2020, the petitioner ³ submitted timely requests that Commerce postpone the preliminary CVD determination.⁴ According to the petitioner, additional time is necessary “to permit Commerce to review respondents' initial full questionnaire responses, any comments thereon and rebuttal factual information filed in response, and any supplemental questionnaire responses before determining preliminary subsidy rates.” ⁵ The petitioner further elaborates that an extension of the deadline for the preliminary results is warranted “{g}iven the number of programs under investigation, including Commerce's first investigation of a currency undervaluation subsidy under its new rules.” ⁶ Consistent with 19 CFR 351.205(e), the petitioner stated the reasons for its request, and Commerce finds no compelling reason to deny that request. Therefore, in accordance with section 703(c)(1)(A) of the Act, Commerce is postponing the deadline for the preliminary determination to no later than 130 days after the date on which this investigation was initiated, until October 30, 2020. Pursuant to section 705(a)(1) of the Act and 19 CFR 351.210(b)(1), the deadline for the final determination of this investigation will continue to be 75 days after the date of the preliminary determination, unless postponed at a later date.

³ The petitioner is the United Steel, Paper and Forestry, Rubber, Manufacturing, Energy, Allied Industrial and Service Workers International Union, AFL-CIO, CLC.

⁴ See Petitioner's Letter, “Passenger Vehicle and Light Truck Tires from Vietnam: Request to Extend Deadline for Preliminary Determination,” dated July 24, 2020 (First Request); and Petitioner's Letter, “Passenger Vehicle and Light Truck Tires from Vietnam: Second Request to Extend Deadline for Preliminary Determination,” dated August 4, 2020 (Second Request).

⁵ See First Request at 1; and Second Request at 1.

⁶ See First Request at 2; and Second Request at 2.

Notification to Interested Parties

This notice is issued and published pursuant to section 703(c)(2) of the Act and 19 CFR 351.205(f)(1).

Dated: August 4, 2020.
Jeffrey I. Kessler,
Assistant Secretary for Enforcement and Compliance.

[FR Doc. 2020-17631 Filed 8-11-20; 8:45 am]

BILLING CODE 3510-DS-P